DEPARTMENT OF THE INTERIOR

National Park Service

National Register of Historic Places; Notification of Pending Nominations and Related Actions

Nominations for the following properties being considered for listing or related actions in the National Register were received by the National Park Service before April 17, 2010. Pursuant to section 60.13 of 36 CFR Part 60 written comments are being accepted concerning the significance of the nominated properties under the National Register criteria for evaluation. Comments are also being accepted on the following properties being considered for removal pursuant to 36 CFR 60.15. Comments may be forwarded by United States Postal Service, to the National Register of Historic Places, National Park Service, 1849 C St., NW., 2280, Washington, DC 20240; by all other carriers, National Register of Historic Places, National Park Service,1201 Eye St., NW. 8th floor, Washington, DC 20005; or by fax, 202-371-6447. Written or faxed comments should be submitted by May 27, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National, Historic Landmarks Program.

ARKANSAS

Faulkner County

Century Flyer, 150 E Siebenmorgan Rd, Conway, 10000284

Izard County

Arnold Springs Farmstead, N end of Jennings Ln, Melbourne, 10000285

Lawrence County

Walnut Ridge Commercial Historic District, Roughly bounded by E and W Main, N and S Front Sts, W Vine, and SW Third Sts, Walnut Ridge, 10000286

Monroe County

Fargo Training School Historic District, Floyd Brown Dr, E of M and A Rd, Fargo, 10000287

Phillips County

Cherry Street Historic District Boundary Increase, Cherry St between Porter and Perry Sts and from Elm to the S side of Missouri St, Helena-West Helena, 10000288

Pulaski County

Sylvan Hills Country Club Golf Course, 7400 N Hwy 107, Sherwood, 10000289

Searcy County

Old Searcy County Jail, State Hwy 27 (Center St), Marshall, 10000290

IOWA

Henry County

Bicksler Block, 101-103 W Cherry St, Salem, 10000291

Cook-Johnson House, 3091 Franklin Ave, Salem, 10000292

Farmers Savings Bank, 101 S Main St, Salem, 10000293

Lamm-Pollmiller Farmstead District, 1584 335th St, Salem, 10000294

Scott County

Best, Louis P. and Clara K., Residence and Auto House, 627 Ripley St, Davenport, 10000296

Story County

Pleasant Grove Community Church and Cemetery, 56971 170th St, Ames, 10000295

MASSACHUSETTS

Suffolk County

Highland Spring Brewery Bottling and Storage Buildings, 154-166 Terrace St, Boston, 10000300

MINNESOTA

Dakota County

Christiania Lutheran Free Church, 26690 Highway Ave, Eureka, 10000301

NEW YORK

Onondaga County

Hazelhurst, 150 E Genesee St, Skaneateles, 10000302

The Sabine, William H., House, 9 Academy Green, Syracuse, 10000303

Ulster County

Christ Lutheran Church and Parsonage, 105-107 Center St, Ellenville, 10000304

Westchester County

Pelham Picture House, 175 Wolf's Ln, Pelham, 10000305

SOUTH CAROLINA

Clarendon County

Manning Commercial Historic District, Portions of E Boyce, W Boyce, N Brooks, S Brooks, W Keitt, N. Mill, S. Mill, E Rigby, and W Rigby, Manning, 10000297

Darlington County

Lydia Plantation, 703 W Lydia Hwy (US HWY 15/SC HWY 34), Lydia, 10000299

VIRGINIA

Campbell County

Altavista Downtown Historic District, 400 and 500 blocks of 7th St; 500, 600, and 700 blocks of Broad St; 500 and 600 blocks of Main St; and 400 block of Wash-Altavista, 10000306

Loudoun County

Purcellville Train Station, 200 N 21st St, Purcellville, 10000307

The Tabernacle/Fireman's Field, 250 S Nursery Ave, Purcellville, 10000308

WISCONSIN

Dane County

Mount Horeb Public School, 207 Academy St, Mount Horeb, 10000298

Request for REMOVAL has been made for the following resources:

ARKANSAS

Howard County

Tollette Shop Building, Town Hall Dr, Tollette, 03000953

Pulaski County

Skillern House, 2522 Arch St, Little Rock, 82000927

[FR Doc. 2010-11329 Filed 5-11-10; 8:45 am]

BILLING CODE 4312-51-P